DEPARTMENT OF COMMERCE

Foreign-Trade Zones Board

[S-29-2019]

Approval of Expansion of Subzone 279A; Thoma-Sea Marine Constructors, L.L.C., Houma and Lockport, Louisiana

On February 27, 2019, the Executive Secretary of the Foreign-Trade Zones (FTZ) Board docketed an application submitted by the Houma-Terrebonne Airport Commission, grantee of FTZ 279, requesting an expansion of Subzone 279A on behalf of Thoma-Sea Marine Constructors, L.L.C. The expanded subzone would be subject to the existing activation limit of FTZ 279.

The application was processed in accordance with the FTZ Act and Regulations, including notice in the Federal Register inviting public comment (84 FR 7872, March 5, 2019). The FTZ staff examiner reviewed the application and determined that it meets the criteria for approval.

Pursuant to the authority delegated to the FTZ Board's Executive Secretary (15 CFR Sec. 400.36(f)), the application to expand Subzone 279A was approved on April 23, 2019, subject to the FTZ Act and the Board's regulations, including Section 400.13, and further subject to FTZ 279's 2,000-acre activation limit.

Dated: April 23, 2019.
Andrew McGilvray,
Executive Secretary.

[FR Doc. 2019-08452 Filed 4-25-19; 8:45 am]

BILLING CODE 3510-DS-P